DEPARTMENT OF HOMELAND SECURITY

Coast Guard

33 CFR Part 165

[Docket No. USCG-2012-0052]

RIN 1625-AA87

Security Zones; North Atlantic Treaty Organization (NATO) Summit, Chicago, IL

AGENCY: Coast Guard, DHS.

ACTION: Temporary final rule.

SUMMARY: The Coast Guard is establishing four separate security zones on both the waters and waterfront area of Chicago Harbor and the Chicago River. These temporary security zones are intended to restrict vessels, regardless of the mode of propulsion, and people from certain land and water areas in Chicago Harbor and the Chicago River during the NATO Summit and associated events, which will be held in Chicago from May 16, 2012, through May 24, 2012. These security zones are necessary to protect visiting government officials and dignitaries from the potential dangers associated with a large scale, international political event.

DATES: This rule is effective between 8 a.m. on May 16, 2012, and 8 a.m. on May 24, 2012.

ADDRESSES: Comments and material received from the public, as well as documents indicated in this preamble as being available in the docket, are part of docket USCG-2012-0052 and are available online at www.regulations.gov. This material is also available for inspection or copying at two locations: The Docket Management Facility (M-30), U.S. Department of Transportation, West Building Ground Floor, Room W12-140, 1200 New Jersey Avenue SE., Washington, DC 20590, between 9 a.m. and 5 p.m., Monday through Friday, except Federal holidays and the U.S. Coast Guard Sector Lake Michigan, 2420 South Lincoln Memorial Drive, Milwaukee, WI 53207, between 8 a.m. and 3 p.m., Monday through Friday, except Federal holidays.

FOR FURTHER INFORMATION CONTACT: If you have questions on this temporary rule, call or email CWO Jon Grob, Prevention Department, Coast Guard Sector Lake Michigan, Milwaukee, WI at (414) 747-7188, email at Jon.K.Grob@uscg.mil. If you have questions on viewing material in the docket, call Renee Wright, Program Manager, Docket Operations, telephone 202-366-9826.

SUPPLEMENTARY INFORMATION:

Regulatory Information

On March 6, 2012, we published a notice of proposed rulemaking (NPRM) entitled Security Zones; G8/North Atlantic Treaty Organization (NATO) Summit, Chicago, Illinois in the Federal Register (77 FR 13232). Although the G8 Summit is now planned to take place at Camp David rather than in Chicago, which is discussed in more detail in the following paragraph, the security zones addressed in the NPRM remain the same. Thus, the Coast Guard views the relocation as having no effect on the comment period. We received no letters commenting on the proposed rule. No public meeting was requested, and none was held.

Background and Purpose

Leaders from around the world will gather in Chicago this spring for what was supposed to be two diplomatic summits hosted by President Obama. Since the NPRM that preceded this temporary final rule was published, on March 6, 2012, the G8 summit has been relocated to be held at Camp David. This relocation, however, does not change the Coast Guard security zones for this event. Rather, the NATO Summit remains a highly political event that still demands the four separate security zones that were originally detailed in the NPRM. The NATO Summit, along with certain associated events, will take place in Chicago from May 16, 2012, through May 24, 2012.

Considering the international, economical, and political objectives of NATO along with the high concentration of dignitaries and political figures, the NATO Summit is expected to draw significant domestic and international media interest and also attract a large number of protesters. Consequently, the Captain of the Port, Sector Lake Michigan, has determined that the implementation of four separate security zones is necessary to ensure the safety and security of those who attend, participate, and visit the NATO Summit and any associated events.

Discussion of Comments and Changes

No comments were received regarding this rule. Since the NPRM published back on March 6, 2012, the G8 Summit portion has been relocated to Camp David. The NATO portion still demands the four separate security zone structure that was originally proposed in the NPRM. As discussed above, the Coast Guard views the relocation as having no effect on the comment period. We made no changes to the regulatory text from what we proposed in the NPRM.

Discussion of Rule

To alleviate the safety and security concerns presented by the international, economical, and political implications of NATO; the high concentration of dignitaries and political figures; the expected interest of domestic and international media; and the anticipated presence of protesters; the Captain of the Port, Sector Lake Michigan, has determined that it is necessary to establish four separately enforceable security zones. These zones allow for the closure of four specific areas on and around the waterfront along both Chicago Harbor and the Chicago River.

The four temporary security zones will encompass:

Security Zone A—This zone encompasses all U.S. navigable waters, facilities, and shoreline within the arc of a circle with a 2000-yard radius of the Burnham park hoist ramp with its center point located in the approximate position 41°51′37″ N, 087°36′44″ W. [DATUM: NAD 83].

Security Zone B—This zone encompasses all U.S. navigable waters, facilities, and shoreline within the arc of a circle with a 2000-yard radius of the outer-most tip of the Chicago lock with its center point located in the approximate position 41°53′19″ N, 087°36′17″ W. [DATUM: NAD 83].

Security Zone C—This zone encompasses all U.S. navigable waters of the Chicago River between the Western Gate of the Chicago Controlling Works Lock which is located in approximate position 41°53′18″ N, 087°36′28″ W [DATUM: NAD 83] and the juncture of the north and south branches of the Chicago River which is located in approximate position 41°53′11″ N, 087°38′15″ W. [DATUM: NAD 83].

Security Zone D—This zone encompasses all U.S. navigable waters of the Chicago River between Mile Marker 322.0, which is in the vicinity of the Loomis Street coal storage terminal slip, and Mile Marker 326.4, which is in the vicinity of the Chicago Tribune Wharf. [DATUM: NAD 83].

These security zones will be effective and enforced between 8 a.m. on May 16, 2012, and 8 a.m. on May 24, 2012.

In accordance with 33 CFR 165.33, no person or vessel, regardless of the mode of propulsion, may enter or remain in any one of the security zones established in this temporary rule without first obtaining permission from the Captain of the Port Sector Lake Michigan. The Captain of the Port Sector Lake Michigan, at his or her discretion, may permit persons and vessels to enter the security zones established in this temporary rule. The security zones created by this rule do not prohibit members of the public from assembling on shore or expressing from locations on shore their points of view to those attending the NATO Summit.

Regulatory Analyses

We developed this temporary rule after considering numerous statutes and executive orders related to rulemaking. Below we summarize our analyses based on 13 of these statutes or executive orders.

Regulatory Planning and Review

This temporary rule is not a significant regulatory action under section 3(f) of Executive Order 12866, Regulatory Planning and Review, and does not require an assessment of potential costs and benefits under section 6(a)(3) of that Order. The Office of Management and Budget has not reviewed it under that Order. It is not “significant” under the regulatory policies and procedures of the Department of Homeland Security (DHS). We conclude that this temporary rule is not a significant regulatory action because we anticipate that it will have minimal impact on the economy, will not interfere with other agencies, will not adversely alter the budget of any grant or loan recipients, and will not raise any novel legal or policy issues. Each security zone has been designed to allow as much free transit of vessels as possible while also preserving the security of the NATO Summit. Thus, vessels may still transit portions of the affected waterways not implicated by the security zones. Also, under certain conditions, vessels may still transit through a security zone when permitted by the Captain of the Port, Sector Lake Michigan. Moreover, the Captain of the Port, Sector Lake Michigan, retains the discretion to suspend enforcement of any or all these security zones when he deems necessary. On the whole, the Coast Guard expects insignificant adverse impact to mariners from the activation of these security zones

Small Entities

Under the Regulatory Flexibility Act (5 U.S.C. 601-612), we have considered whether this temporary rule would have a significant economic impact on a substantial number of small entities. The term “small entities” comprises small businesses, not-for-profit organizations that are independently owned and operated and are not dominant in their fields, and governmental jurisdictions with populations of less than 50,000.

The Coast Guard certifies under 5 U.S.C. 605(b) that this temporary rule would not have a significant economic impact on a substantial number of small entities.

This temporary rule would affect the following entities, some of which might be small entities: The owners and operators of vessels, regardless of the mode of propulsion, intending to transit or anchor in the security zones established in this rule. These security zones would not have a significant economic impact on a substantial number of small entities for the same reasons discussed in the above Regulatory Planning and Review section.

If you think that your business, organization, or governmental jurisdiction qualifies as a small entity and that this temporary rule would have a significant economic impact on it, please submit a comment (see ADDRESSES) explaining why you think it qualifies and how and to what degree this temporary rule would economically affect it.

Assistance for Small Entities

Under section 213(a) of the Small Business Regulatory Enforcement Fairness Act of 1996 (Pub. L. 104-121), we want to assist small entities in understanding this temporary rule so that they can better evaluate its effects on them and participate in the rulemaking. If this temporary rule would affect your small business, organization, or governmental jurisdiction and you have questions concerning its provisions or options for compliance, please contact the Waterways Management Department, Coast Guard Sector Lake Michigan, Milwaukee, WI at (414) 747-7188. The Coast Guard will not retaliate against small entities that question or object to this rule or any policy or action of the Coast Guard.

Collection of Information

This temporary rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this temporary rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this temporary rule would not result in such an expenditure, we do discuss the effects of this temporary rule elsewhere in this preamble.

Taking of Private Property

This temporary rule will not affect the taking of private property or otherwise have taking implications under Executive Order 12630, Governmental Actions and Interference with Constitutionally Protected Property Rights.

Civil Justice Reform

This temporary rule meets applicable standards in sections 3(a) and 3(b)(2) of Executive Order 12988, Civil Justice Reform, to minimize litigation, eliminate ambiguity, and reduce burden.

Protection of Children

We have analyzed this temporary rule under Executive Order 13045, Protection of Children from Environmental Health Risks and Safety Risks. This temporary rule is not an economically significant rule and does not create an environmental risk to health or risk to safety that may disproportionately affect children.

Indian Tribal Governments

This temporary rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this temporary rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This temporary rule does not use technical standards. Therefore, we did not consider the use of voluntary consensus standards.

Environment

We have analyzed this temporary rule under Commandant Instruction M16475.lD and Department of Homeland Security Management Directive 5100.1, which guide the Coast Guard in complying with the National Environmental Policy Act of 1969 (NEPA) (42 U.S.C. 4321-4370f), and have made a determination that this action is one of a category of actions that do not individually or cumulatively have a significant effect on the human environment. This temporary rule involves the establishment of security zones and therefore, is categorically excluded under paragraph 34(g) of the Instruction. An environmental analysis check list supporting this determination is available in the docket where indicated under ADDRESSES.

List of Subjects in 33 CFR Part 165

Harbors, Marine security, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add § 165.T09-0052 to read as follows:

§ 165.T09-0052 Security Zones; North Atlantic Treaty Organization (NATO) Summit, Chicago, Illinois.

(a) Locations. The following areas are designated security zones:

(1) Security Zone A—Security Zone A encompasses all U.S. navigable waters, facilities, and shoreline within the arc of a circle with a 2000-yard radius of the Burnham park hoist ramp with its center point located in the approximate position 41°51′37″ N, 087°36′44″ W. [DATUM: NAD 83].

(2) Security Zone B—Security Zone B encompasses all U.S. navigable waters, facilities, and shoreline within the arc of a circle with a 2000-yard radius of the outer most tip of the Chicago lock with its center point located in the approximate position 41°53′19″ N, 087°36′17″ W. [DATUM: NAD 83].

(3) Security Zone C—Security Zone C encompasses all U.S. navigable waters of the Chicago River between the Western Gate of the Chicago Controlling Works Lock which is located in approximate position 41°53′18″ N, 087°36′28″ W [DATUM: NAD 83] and the juncture of the north and south branches of the Chicago River which is located in approximate position 41°53′11″ N, 087°38′15″ W. [DATUM: NAD 83].

(4) Security Zone D—Security D encompasses all U.S. navigable waters of the Chicago River between Mile Marker 322.0, which is in the vicinity of the Loomis Street coal storage terminal slip, and Mile Marker 326.4, which is in the vicinity of the Chicago Tribune Wharf. [DATUM: NAD 83].

(b) Enforcement period. These security zones will be effective and enforced between 8 a.m. on May 16, 2012, and 8 a.m. on May 24, 2012.

(c) Regulations. (1) In accordance with § 165.33, entry into any area of these security zones is prohibited unless authorized by the Coast Guard Captain of the Port, Sector Lake Michigan, or his or her on-scene designated representative.

(2) The designated representative of the Captain of the Port, Sector Lake Michigan, is any Coast Guard commissioned, warrant or petty officer who has been designated by the Captain of the Port, Sector Lake Michigan, to act on his or her behalf.

(3) Vessel operators desiring to enter or operate within any of the security zones shall contact the Captain of the Port, Sector Lake Michigan, or his or her on-scene designated representative to obtain permission to do so. The Captain of the Port, Sector Lake Michigan, or his or her on-scene designated representative may be contacted via VHF Channel 16.

(4) Vessel operators given permission to enter or operate in any of the security zones shall comply with all directions given by the Captain of the Port, Sector Lake Michigan, or his or her on-scene designated representative.

Dated: April 6, 2012.
M.W. Sibley,
Captain, U.S. Coast Guard, Captain of the Port, Sector Lake Michigan.

[FR Doc. 2012-8965 Filed 4-12-12; 8:45 am]

BILLING CODE 9110-04-P